CONSUMER PRODUCT SAFETY COMMISSION

[Docket No. CPSC-2025-0003]

Agency Information Collection Activities; Proposed Collection; Pool Safely Grant Program Application

AGENCY: Consumer Product Safety Commission.

ACTION: Notice of Information Collection; Request for Comment.

SUMMARY: As required by the Paperwork Reduction Act of 1995, the Consumer Product Safety Commission (CPSC or Commission) announces that the Commission has submitted to the Office of Management and Budget (OMB) a request for approval of a new information collection. The collection is for an application by which potential grant recipients may request funding under CPSC's Pool Safely Grant Program (PSGP). The PSGP provides funds for state, local and tribal governments for education, training and enforcement of pool safety requirements intended to save lives from drowning in swimming pools and spas. On March 11, 2025, CPSC published a notice in the Federal Register to announce the agency's intention to seek approval of the collection of information. The Commission received one comment in support of the collection. By publication of this notice, the Commission announces that CPSC has submitted to the OMB a request for that collection of information.

DATES: Submit comments on the collection of information by July 14, 2025.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. Written comments that are sent to OMB also should be submitted electronically at https://www.regulations.gov, under Docket No. CPSC-2025-0003.

FOR FURTHER INFORMATION CONTACT: Cynthia Gillham, Consumer Product Safety Commission, 4330 East-West Highway, Bethesda, MD 20814; (301) 504-7791, or by email to: pra@cpsc.gov.

SUPPLEMENTARY INFORMATION: CPSC seeks approval for the following collection of information.¹

¹ On June 3, 2025, the Commission voted (2-0) to publish this notice.

Title: Pool Safely Grant Program Application.

OMB Number: New.

Type of Request: New information collection request.

Type of Review Requested: Regular.

Requested Expiration Date of Approval: Three years from date of approval.

Summary of the Collection of Information: The Virginia Graeme Baker Pool and Spa Safety Act (VGB Act) authorizes CPSC to grant funding for the PSGP. 15 U.S.C. 8004-8008. The PSGP provides two-year grants to eligible state, local or tribal governments to reduce deaths and injuries from drowning and drain entrapment incidents in swimming pools and spas. The grant awards can range from $50,000 to $400,000 per applicant. Prospective applicants will be able to access the grant application on Grants.gov and apply electronically through GrantSolutions. Applicants will be required to complete common forms ² used for federal grants, as well as up to six additional attachments specific to PSGP. Awards are posted to the CPSC's website and via press release.

² A common form is an approved information collection and can be used by two or more agencies, or government-wide, for the same purpose. See https://pra.digital.gov/clearance-types/.

Description of the Need for the Information and Proposed Use of the Information: The PSGP is part of CPSC's national campaign to prevent drowning and drain entrapment. Drowning is one of the leading causes of death among young children.³ The information collected through the application for PSGP grants is used to determine eligibility and to provide funding to reduce deaths and injuries from drowning and drain entrapment incidents in swimming pools and spas. Funding can be requested for enforcement and for education in accordance with 15 U.S.C. 8004(d).

³ https://www.cpsc.gov/Newsroom/News-Releases/2024/3-0-Million-Available-in-Pool-Safely-Grants-to-Help-State-Local-and-Tribal-Governments-Prevent-Drownings-and-Drain-Entrapments-Apply-Now.

Affected Public: State, Local or Tribal or U.S. Territory Government.

Estimated Number of Respondents: We expect up to 20 respondents annually.

Frequency: Annual.

Total Estimated Annual Burden: To apply for the PSGP, in addition to completing common forms,⁴ an applicant would typically provide six attachments specific to the grant program.

⁴ The common forms include: SF-424A Budget Information—Non-Construction (OMB No. 4040-0006), SF-424B Assurances—Non-Construction Programs (OMB No. 4040-0007), Project Abstract Summary (OMB No. 4040-0019), SF-424 Application for Federal Assistance (OMB No. 4040-0020), and SF-LLL Disclosure of Lobbying Activities (OMB No. 4040-0013). To avoid double counting, the estimated burden for this collection does not include burden approved under these common forms.

• Attachment 1, the project narrative, provides a description of community needs and is estimated to take 20 hours to prepare, on average.

• Attachment 2, the budget narrative, presents each budget category with an explanation of each line item and is estimated to take 10 hours to prepare, on average.

• Attachment 3, the schedule, is a multi-year project schedule/timeline and is estimated to take six hours to prepare, on average.

• Attachment 4, the staffing plan, includes a narrative that describes and identifies each program staff member with the amount of time for the grant program funded work and is estimated to take six hours to prepare, on average.

• Attachment 5, legal eligibility, includes references necessary to support that the applicant meets the legal eligibility requirements of the VGB Act for swimming pools and spas and is estimated to take one hour to prepare, on average.

• Attachment 6, the indirect cost rate agreement, substantiates indirect costs that may be reimbursed as permissible administrative costs as stated in the VGB Act and is estimated to take one hour to prepare, on average.

CPSC estimates it would take the applicant approximately 44 hours to complete attachments 1-6. CPSC expects to receive 20 grant applications that utilize the attachments described, for a total burden hour estimate of 880 hours (44 hours per application × 20 applications).

Total Estimated Annual Burden Cost: CPSC estimates the compensation for the creation and compilation of attachments 1-6 is $62.92 per hour (U.S. Bureau of Labor Statistics, “Employer Costs for Employee Compensation,” September 2024, total compensation for state and local government workers: https://www.bls.gov/news.release/archives/ecec_12172024.pdf). Therefore, the estimated annual cost of the burden requirements is $55,370 ($62.92 per hour × 880 hours = $55,369.60). Based on this analysis, the collection of information would impose a total burden to applicants of 880 hours at a cost of $55,370.

Response to Comments: The Commission received one comment in support of the collection. The commenter stated that CPSC's burden estimate for the proposed collection is accurate for first-time applicants. However, the commenter noted that for repeat applicants the burden may decrease. Specifically, the commenter stated that information such as the staffing model, legal eligibility, and indirect cost rate agreement do not change much from previous applications. The Commission agrees that subsequent grant applications may take less time than the first application, however, each complete application would contain the six updated attachments specific to the grant program. The estimated respondent burden for preparing and submitting these attachments is based on the average application time, which may be more for applicants with large and complicated packages, or less for repeat applicants that reuse application materials and for smaller entities with smaller and less complicated application packages.

Alberta E. Mills,
Secretary, Consumer Product Safety Commission.

[FR Doc. 2025-10755 Filed 6-12-25; 8:45 am]

BILLING CODE 6355-01-P